DEPARTMENT OF TRANSPORTATION

Federal Aviation Administration

14 CFR Part 39

[Docket No. FAA-2016-3984; Directorate Identifier 2014-NM-119-AD]

RIN 2120-AA64

Airworthiness Directives; Airbus Airplanes

AGENCY: Federal Aviation Administration (FAA), DOT.

ACTION: Notice of proposed rulemaking (NPRM).

SUMMARY: We propose to supersede Airworthiness Directive (AD) 2013-10-03, for all Airbus Model A330-200, -200 Freighter, and -300 series airplanes; and Model A340-200, -300, -500, and -600 series airplanes. AD 2013-10-03 currently requires one-time inspections for deformation and damage of the bogie beams of the main landing gear (MLG); repetitive inspections for damage and corrosion of the sliding piston sub-assembly on certain airplanes; and related investigative and corrective actions if necessary. Since we issued AD 2013-10-03, we have determined that certain one-time inspections are no longer necessary, certain compliance times may be extended, and an optional terminating action should be provided. This proposed AD would remove Model A340-500, and -600 series airplanes from the applicability, remove certain one-time inspections of the MLG bogie beams and the sliding piston sub-assembly; revise certain compliance times and provide, for certain airplanes, an optional terminating action for the repetitive actions. We are proposing this AD to detect and correct damage or corrosion under the bogie stop pad of both MLG bogie beams, which could result in a damaged bogie beam and consequent detachment of the beam from the airplane, or collapse of the MLG and departure of the airplane from the runway.

DATES: We must receive comments on this proposed AD by April 15, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus SAS, Airworthiness Office—EAL, 1 Rond Point Maurice Bellonte, 31707 Blagnac Cedex, France; telephone: +33 5 61 93 36 96; fax: +33 5 61 93 45 80; email: airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-3984; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Comments Invited

We invite you to send any written relevant data, views, or arguments about this proposed AD. Send your comments to an address listed under the ADDRESSES section. Include “Docket No. FAA-2016-3984; Directorate Identifier 2014-NM-119-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On May 13, 2013, we issued AD 2013-10-03, Amendment 39-17456 (78 FR 31386, May 24, 2013). AD 2013-10-03 requires actions intended to address an unsafe condition on all Airbus Model A330-200, -200 Freighter, and -300 series airplanes; and Model A340-200, -300, -500, and -600 series airplanes. (AD 2013-10-03 superseded AD 2010-02-10, Amendment 39-16181 (75 FR 4477, January 28, 2010)).

Since we issued AD 2013-10-03, Amendment 39-17456 (78 FR 31386, May 24, 2013), we have determined that certain one-time inspections are no longer necessary, certain compliance times may be extended, and an optional terminating action should be provided.

The European Aviation Safety Agency (EASA), which is the Technical Agent for the Member States of the European Union, has issued EASA AD 2014-0120R1, dated August 31, 2015 (referred to after this as the Mandatory Continuing Airworthiness Information, or “the MCAI”), to correct an unsafe condition for all Airbus Model A330-200, -200 Freighter, and -300 series airplanes; and Model A340-200, -300, -500, and -600 series airplanes. The MCAI states:

During a scheduled maintenance inspection on the Main Landing Gear (MLG), the bogie stop pad was found deformed and cracked. Upon removal of the bogie stop pad for replacement, the bogie beam was also found cracked.

The results of a laboratory investigation indicated that an overload event had occurred and no fatigue propagation of the crack was evident.

A second bogie beam crack was subsequently found on another aeroplane, located under a bogie stop pad which only had superficial paint damage.

This condition, if not detected and corrected, could lead to landing gear bogie detachment from the aeroplane, or landing gear collapse, or a runway excursion, possibly resulting in damage to the aeroplane and injury to the occupants.

To address this potential unsafe condition, EASA issued * * * [an earlier AD] to require accomplishment of a one-time detailed inspection under the bogie stop pad of both MLG bogie beams.

As a result of the one-time inspection required by that [earlier EASA] AD, applicable to A330, A340-200 and A340-300 aeroplanes, numerous bogie stop pad were found corroded and a few cracked.

The one-time inspection was retained in EASA AD 2011-0211 [http://ad.easa.europa.eu/blob/easa_ad_2011_0211_superseded.pdf/AD_2011-0211_1] [which corresponds to FAA AD 2013-10-03, Amendment 39-17456 (78 FR 31386, May 24, 2013)], which superseded * * * [an earlier EASA AD], applicable to all A330 and A340 aeroplanes, which also introduced repetitive inspections for A330, A340-200 and A340-300 aeroplanes, but not for the A340-500/-600 aeroplanes.

Since issuance of EASA AD 2011-0211, further investigation accomplished by Airbus led to the conclusion that the one-time inspection in accordance with Airbus Service Bulletin (SB) A330-32-3220, or Airbus SB A340-32-4264, or Airbus SB A340-32-5087, as applicable, is no longer necessary and, for those aeroplanes, only the inspections (initial and repetitive) in accordance with Airbus SB A330-32-3248 or Airbus SB A340-32-4286, as applicable, must remain.

In addition, Airbus also determined that repetitive inspections of the MLG in accordance with Airbus SB A340-32-5112 are necessary for A340-500/-600 aeroplanes.

Consequently, EASA issued * * * [another AD], which partially retained the requirements of EASA AD 2011-0211, which was superseded, and introduced repetitive detailed inspections of the MLG for A340-500 and A340-600 aeroplanes.

Since that [EASA] AD was issued, it was determined that repetitive inspections of the MLG are not necessary on the A340-500/-600 aeroplanes and that the threshold for the inspection of MLG P/N 10-210 series can be delayed. In addition, Airbus developed a mod of the MLG P/N 10-210 series that can be embodied both in production through mod 204421 and in service with Airbus SB A330-32-3268 or SB A340-32-4300, as applicable. This modification constitutes a terminating action for the repetitive inspections for aeroplanes equipped with MLG P/N 10-210 series.

For the reasons described above, this [EASA] AD is revised and requires inspection of the MLG (with an amended threshold for MLG P/N 10-210 series) and introduces an option to terminate the repetitive inspection with a modification of the MLG P/N 10-210 series.

The required actions include repetitive detailed inspections for damage and corrosion of the sliding piston sub-assembly, and related investigative and corrective actions if necessary. Related investigative actions include a test for indications of corrosion and damage to the bogie assembly base material, and a magnetic particle inspection for cracks, corrosion, and damage of the bogie beam. Corrective actions include repairing affected parts.

The optional terminating action modification of the bogie beam of an MLG having P/N 10-210 consists of installing a nickel under chrome coating, a new bogie beam stop pad, and new stop pad brackets.

You may examine the MCAI in the AD docket on the Internet at http://www.regulations.gov by searching for and locating Docket No. FAA-2016-3984.

Related Service Information Under 1 CFR Part 51

Airbus has issued Service Bulletin A330-32-3248, Revision 02, dated April 16, 2014. This service information describes procedures for doing a detailed inspection for damage and corrosion of the MLG sliding piston sub-assembly, bogie beam stop pad and the bogie beam under the stop pad; and related investigative and corrective actions.

Airbus has also issued Service Bulletin A330-32-3268 and Airbus Service Bulletin A340-32-4300, both dated April 20, 2015. This service information describes procedures for modification of the bogie beam of an MLG having P/N 10-210, which includes installing a nickel under chrome coating, a new bogie beam stop pad, and new stop pad brackets.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Explanation of “RC” Procedures and Tests in Service Information

The FAA worked in conjunction with industry, under the Airworthiness Directive Implementation Aviation Rulemaking Committee (ARC), to enhance the AD system. One enhancement was a new process for annotating which procedures and tests in the service information are required for compliance with an AD. Differentiating these procedures and tests from other tasks in the service information is expected to improve an owner's/operator's understanding of crucial AD requirements and help provide consistent judgment in AD compliance. The procedures and tests identified as Required for Compliance (RC) in any service information have a direct effect on detecting, preventing, resolving, or eliminating an identified unsafe condition.

As specified in a Note under the Accomplishment Instructions of the specified service information, procedures and tests that are identified as RC in any service information must be done to comply with the proposed AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in an airworthy condition. Any substitutions or changes to procedures or tests identified as RC will require approval of an AMOC.

Costs of Compliance

We estimate that this proposed AD affects 89 Model A330-200, -200 Freighter, and -300 series airplanes of U.S. registry.

We estimate that it would take about 12 work-hours per product to comply with the basic requirements of this proposed AD. The average labor rate is $85 per work-hour. Based on these figures, we estimate the cost of this proposed AD on U.S. operators to be $90,780, or $1,020 per product.

Currently, there are no affected Model A340-200, or -300, series airplanes on the U.S. Register. However, if an affected airplane is imported and placed on the U.S. Register in the future, it would be subject to the same per-airplane cost specified above for the Model A330-200, -200 Freighter, and -300 series airplanes.

In addition, we estimate that any necessary follow-on actions would take about 24 work-hours, and 1 work-hour for reporting, and require parts costing $78, for a cost of $2,203 per product. We have no way of determining the number of aircraft that might need these actions.

According to the manufacturer, all of the parts costs of the optional terminating action specified in this proposed AD may be covered under warranty, thereby reducing the cost impact on affected individuals. We do not control warranty coverage for affected individuals. We have received no definitive data that would enable us to provide the work-hour cost estimates for the optional terminating action specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-10-03, Amendment 39-17456 (78 FR 31386, May 24, 2013), and adding the following new AD:

Airbus: Docket No. FAA-2016-3984; Directorate Identifier 2014-NM-119-AD.

(a) Comments Due Date

We must receive comments by April 15, 2016.

(b) Affected ADs

This AD replaces AD 2013-10-03, Amendment 39-17456 (78 FR 31386, May 24, 2013).

(c) Applicability

This AD applies to Airbus airplanes identified in paragraphs (c)(1) and (c)(2) of this AD, certificated in any category; all serial numbers, except those that have embodied Airbus Modification 204421 in production.

(1) Model A330-201, -202, -203, -223, -223F, -243, -243F, -301, -302, -303, -321, -322, -323, -341, -342, and -343 airplanes.

(2) Model A340-211, -212, -213, -311, -312, -313 airplanes.

(d) Subject

Air Transport Association (ATA) of America Code 32, Landing gear.

(e) Reason

This AD was prompted by reports of corroded and cracked bogie beams under the bogie stop pad. We are issuing this AD to detect and correct damage or corrosion under the bogie stop pad of both main landing gear (MLG) bogie beams, which could result in a damaged bogie beam and consequent detachment of the beam from the airplane, or collapse of the MLG and departure of the airplane from the runway.

(f) Compliance

Comply with this AD within the compliance times specified, unless already done.

(g) Repetitive Inspections, Related Investigative Actions, and Corrective Actions

For Model A330-200, Model A330-200 Freighter, and Model A330-300 series airplanes; and Model A340-200, and -300 series airplanes; equipped with a MLG having part number (P/N) 201252 series, or P/N 201490 series, or P/N 10-210 series: Do the applicable actions required by paragraph (g)(1) or (g)(2) of this AD.

(1) For airplanes equipped, as of the effective date of this AD, with a MLG that has been previously inspected as specified in Airbus Service Bulletin A330-32-3220, Airbus Service Bulletin A330-32-3248, Airbus Service Bulletin A340-32-4264, or Airbus Service Bulletin A340-32-4286, as applicable: At applicable times specified in paragraphs (h)(1) and (h)(2) of this AD, do a detailed inspection for damage (e.g., cracking and fretting) and corrosion of the MLG sliding piston subassembly, bogie beam stop pad, and the bogie beam under the stop pad; and do all applicable related investigative and corrective actions; in accordance with the Accomplishment Instructions of Airbus Service Bulletin A330-32-3248, Revision 02, dated April 16, 2014; or Airbus Service Bulletin A340-32-4286, dated October 5, 2011; as applicable, except as required by paragraph (j) of this AD. Do all applicable related investigative and corrective actions before further flight. Repeat the inspection of the MLG sliding piston sub-assembly, bogie beam stop pad, and the bogie beam under the stop pad, thereafter, at intervals not to exceed 2,500 flight cycles or 24 months, whichever occurs first.

(2) For airplanes equipped, as of the effective date of this AD, with a MLG that has not been previously inspected as specified in Airbus Service Bulletin A330-32-3220, Airbus Service Bulletin A330-32-3248, Airbus Service Bulletin A340-32-4264, or Airbus Service Bulletin, A340-32-4286, as applicable: At the applicable times specified in paragraphs (h)(3) and (h)(4) of this AD, do a detailed inspection for damage (e.g., cracking and fretting) and corrosion of the MLG sliding piston sub-assembly, bogie beam stop pad, and the bogie beam under the stop pad; and do all applicable related investigative and corrective actions; in accordance with the Accomplishment Instructions of Airbus Service Bulletin A330-32-3248, Revision 02, dated April 16, 2014; or Airbus Service Bulletin A340-32-4286, dated October 5, 2011; as applicable, except as required by paragraph (j) of this AD. Do all applicable related investigative and corrective actions before further flight. Repeat the inspection of the MLG sliding piston sub-assembly, bogie beam stop pad, and the bogie beam under the stop pad, thereafter, at intervals not to exceed 2,500 flight cycles or 24 months, whichever occurs first.

(h) Compliance Times for Paragraph (g) of This AD Actions

Do the applicable actions required by paragraph (g) of this AD at the applicable time specified in paragraph (h)(1), (h)(2), (h)(3), or (h)(4) of this AD.

(1) For airplanes identified in paragraph (g)(1) of this AD having an MLG P/N 201252 series and P/N 201490 series: Before the accumulation of 2,500 total flight cycles or 24 months, whichever occurs first since the later of the times specified in paragraphs (h)(1)(i) and (h)(1)(ii) of this AD.

(i) Since first flight after a MLG overhaul.

(ii) Since first flight after the most recent accomplishment of an inspection of the MLG as specified in Airbus Service Bulletin A330-32-3220; Airbus Service Bulletin A330-32-3248; Airbus Service Bulletin A340-32-4286; or Airbus Service Bulletin A340-32-4264; as applicable.

(2) For airplanes identified in paragraph (g)(1) of this AD having an MLG P/N 10-210 series: Before the accumulation of 126 months since first flight of the MLG on an airplane or since first flight on an airplane after the most recent inspection of the MLG as specified in Airbus Service Bulletin A330-32-3248, Revision 01, dated December 13, 2012; or Airbus Service Bulletin A330-32-3248, Revision 02, dated April 16, 2014; or Airbus Service Bulletin A340-32-4286, dated October 5, 2011; as applicable.

(3) For airplanes identified in paragraph (g)(2) of this AD having an MLG P/N 201252 series and P/N 201490 series: At the later of the times specified in paragraphs (h)(3)(i) and (h)(3)(ii) of this AD.

(i) Before the accumulation of 2,500 total flight cycles or 24 months, whichever occurs first since the later of the times specified in paragraphs (h)(3)(i)(A) and (h)(3)(i)(B) of this AD.

(A) Since first flight of the MLG on an airplane.

(B) Since first flight after a MLG overhaul.

(ii) Within 16 months after the effective date of this AD.

(4) For airplanes identified in paragraph (g)(2) of this AD having MLG P/N 10-210 series: Before the accumulation of 126 months since first flight of the MLG on an airplane.

(i) Optional Overhaul

For the purposes of this AD, accomplishment of an MLG overhaul is acceptable instead of an inspection required by paragraph (g) of this AD. The inspections required by paragraph (g) of this AD are not terminated by an MLG overhaul, but are required at the next applicable compliance time required by paragraph (g) of this AD.

(j) Service Information Exception

If the applicable service information specified in paragraph (g) of this AD specifies to contact Messier-Dowty for instructions, or if any repair required by paragraph (g) of this AD is beyond the maximum repair allowance specified in the applicable service information specified in paragraph (g) of this AD: Before further flight, repair using a method approved by the Manager, International Branch, ANM-116, Transport Airplane Directorate, FAA; or the European Aviation Safety Agency (EASA); or Airbus's EASA Design Organization Approval (DOA).

(k) Reporting Requirement

After accomplishing any of the corrective actions required by paragraph (g) of this AD or any repair required by paragraph (j) of this AD: Report the results of the corrective actions or repair to Airbus, Customer Services Directorate, 1 Rond Point Maurice Bellonte, 31707 Blagnac Cedex France; Attn: SDC32 Technical Data and Documentation Services; fax: +33 5 61 93 28 06; email: sb.reporting@airbus.com, at the applicable time specified in paragraph (k)(1) or (k)(2) of this AD.

(1) If the corrective action or repair was done on or after the effective date of this AD: Submit the report within 90 days after doing corrective action or repair.

(2) If the corrective action or repair was done prior to the effective date of this AD: Submit the report within 90 days after the effective date of this AD.

(l) Terminating Action Limitation

Accomplishment of corrective actions as required by paragraph (g) of this AD does not constitute terminating action for the repetitive inspections required by this AD.

(m) Optional Terminating Action for Certain Airplanes

For airplanes with any MLG having P/N 10-210 series: Modification on an airplane of the bogie beam of each MLG having P/N 10-210 series as specified in the Accomplishment Instructions of Airbus Service Bulletin A330-32-3268, dated April 20, 2015; or Airbus Service Bulletin A340-32-4300, dated April 20, 2015; as applicable; constitutes terminating action for the requirements of this AD for that airplane, provided that, following in-service modification, the airplane remains in post-service bulletin configuration.

(n) Credit for Previous Actions

This paragraph provides credit for the actions required by paragraph (g) of this AD, if those actions were performed before the effective date of this AD using the service information identified in paragraph (n)(1), (n)(2), or (n)(3), (n)(4), or (n)(5) of this AD.

(1) Airbus Service Bulletin A330-32-3248, dated October 5, 2011, which is not incorporated by reference in this AD.

(2) Airbus Service Bulletin A330-32-3248, Revision 01, including Appendix 01, dated December 13, 2012, which was incorporated by reference in AD 2013-10-03, Amendment 39-17456 (78 FR 31386, May 24, 2013).

(3) Airbus Service Bulletin A330-32-3220, dated October 10, 2008, which was incorporated by reference in AD 2010-02-10, Amendment 39-16181 (75 FR 4477, January 28, 2010).

(4) Airbus Service Bulletin A330-32-3220, Revision 01, dated October 5, 2011, which was incorporated by reference in AD 2013-10-03, Amendment 39-17456 (78 FR 31386, May 24, 2013).

(5) Airbus Service Bulletin A330-32-3220, Revision 02, dated December 13, 2012, which was incorporated by reference in AD 2013-10-03, Amendment 39-17456 (78 FR 31386, May 24, 2013).

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone: 425-227-1138; fax: 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2013-10-03, Amendment 39-17456 (78 FR 31386, May 24, 2013), are not approved as AMOCs with this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): Except as required by paragraph (j) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(p) Special Flight Permits

Special flight permits, as described in Section 21.197 and Section 21.199 of the Federal Aviation Regulations (14 CFR 21.197 and 21.199), are not allowed if any crack is found during any inspection required by this AD.

(q) Related Information

(1) Refer to Mandatory Continuing Airworthiness Information (MCAI) EASA AD 2014-0120R1, dated August 31, 2015, for related information. This MCAI may be found in the AD docket on the Internet at http://www.regulations.gov by searching for and locating Docket No. FAA-2016-3984.

(2) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet http://www.airbus.com. You may view this service information at the FAA, Transport Airplane Directorate, 1601 Lind Avenue SW., Renton, WA. For information on the availability of this material at the FAA, call 425-227-1221.

Issued in Renton, Washington, on February 19, 2016.
Dorr M. Anderson,
Acting Manager, Transport Airplane Directorate, Aircraft Certification Service.

[FR Doc. 2016-04290 Filed 2-29-16; 8:45 am]

BILLING CODE 4910-13-P